DEPARTMENT OF THE TREASURY

Senior Executive Service; Departmental Offices; FY 2004 Performance/Bonus Review Board

August 1, 2004.

AGENCY: Treasury Department.

ACTION: Notice of members of the Departmental Offices Performance/Bonus Review Board.

SUMMARY: Pursuant to 5 U.S.C. 4314(c)(4), this notice announces the appointment of members of the Departmental Offices Performance/Bonus Review Board. The purpose of this Board is to review and make recommendations concerning proposed Performance appraisals, ratings, bonuses and other appropriate personnel actions for incumbents of SES positions.

Composition of Deputyartmental Board: The Board shall consist of at least three members. In the case of an appraisal of a career appointee, more than half the members shall consist of career appointees. The names and titles of the Boards members are attached.

DATES: Membership is effective on the date of this notice.

FOR FURTHER INFORMATION CONTACT: Cathy Hickson-Smith, Department of the Treasury, Office of Human Resources, HR Management Specialist, 15th and Pennsylvania Ave., NW., Washington, DC 20220, Telephone: 202-622-1690.

This notice does not meet the Department's criteria for significant Regulations.

Dated: August 1, 2004.
Barbara McWhirter,
Director, Office of Human Resources.

FY 2004 Performance/Bonus Review Board
[For listing in Federal Register]
Name | Offical title
Angus, Barbara M | Internal Tax Counsel
Bitsberger, Timothy S | DAS (Federal Finance)
Carfine, Kenneth Edward | DAS for Fiscal Operations and Policy
Carleton, Norman K | Policy Director, Office of Financial M
Carroll, Robert J | DAS (Tax Analysis)
Contreras, Rebecca A | Deputy Asst Sec & Chief Human Capital
Dawson, Michael A | Dep Asst Sec for Critical Infrastructu
Delgado Jenkins, Jesus H | DAS (Management and Budget)
Dobins, Paul S | Director for Economic Modeling & Compu
Dohner, Robert S | Senior Advisor to DAS (Int'l Monetary)
Emling, John G | Deputy Asst Sec for Legislative Affair
Fall III, James H | DAS (Technical Assistance Policy)
Farrell, Paula F | Dir., Office of Government Financing
Fratto, Salvatore Antonio | Dep Asst Sec (Public Affairs)
Fuller, Reese H | ACD Program Director
Garcia, Arthur A | Director, CDFI Fund
Geduldig, Courtney Clelan | DAS for Legis Affrs (Banking & Fnan)
Gerardi, Geraldine A | Dir for Business Taxation
Hammond, Donald V | Fiscal Assistant Secretary
Hudson, Barry K | Deputy Chief Financial Officer
Jaskowiak, Mark M | Director, Office of Specialized Develo
Jenner, Gregory F | Deputy Asst Sec (Tax Policy)
Jones, Owen M | Dep Dir for Mgmt & Chief Fin Ofc
Kiefer, Donald W | Director, Office of Tax Analysis
Kodat, Roger E | DAS (Government Financial Policy)
Kupfer, Jeffrey F | Deputy Chief of Staff
Lee, Nancy | Das (Eurasia & Middle East)
Lingebach, James R | Dir., Accnting & Internal Control
Lingrell, David A | DIR., Treas Bldg & Annex Reno & Rebldg Prog
Loevinger, David G | Director, Office of East Asian Nations
Lowery, Clay | Deputy, Assistant Secretary (Debt & Dev P)
Mathiasen, Karen V | Dir, Ofc of Central & Eastn Europ Nats
McFadden, William J | Senior Policy Advisor
Merkel, David A | DAS for Legislative Affairs (Internat
Monroe, David J | Director, Office of Cash and Debt Mana
Murden, William C | Dir, Ofc of Int'l Bankg & Sec Markets
Newcomb, Robert R | Diretor, Office of Foreign Assets
Nickles, Kim E | White House Liaison
Nunns, James R | Dir for Individual Taxation
Olechowski, Mark J | Dir, Do Modern. Project
Parker, Orland M | Acting Chief Information Officer
Paulson, Sara L | Supvy Director, Office of Development
Pitman Jr, Bobby J | DAS Mulilateral Dev Banks (IA)
Platt, Joel D | Dir For Revenue Estimating
Pointer, Patricia J | Dep. To The Daswm & Dir., Ofc. of Workfo
Randolph, William C | Director for International Taxation
Reid, Robert N | DAS for Accounting Operations
Relic, Rebecca L | DAS (Pub Lia, Str Pl, Bus Dev)
Schott, Charles G | Deputy Asst Sec (Trade&Invest Policy)
Schuerch, William E | Dep Asst Sec (Int Dev, Debt & Envir Pol)
Shaw, Mary Beth | Dir., Office of D.C. Pensions
Sills, Gay H | Dir, Ofc of International Investment
Skud, Timothy E | DAS Tax, Trade and Tariff Policy
Smith III, George E | Director, Ofc. of Technical Assistance
Smith, Christopher A | Chief of Staff
Sobel, Mark D | Deputy Ast Sec (Int'l Mon & Fin Pol)
Solomon, Eric | DAS (Regulatory Affairs)
Stedman, Louellen | DIR Ofc Intnatl Mon Aff
Stein, Robert S | AS (Macroeconomic Analysis)
Sweetnam Jr, William F | Benefits Tax Counsel
Toloui, Ramin | Dir Ofc Latn Amer & Carib Ntns
Tvardek, Steven F | Director, Office of Trade Finance
Warthin, Thomas W | Dir., Ofc of Finan. Svcs Negotiations
Weatherford, Timothy L | Senior Advisor to the Assistant Secret
Wolfe, George B | Senior Advisor
Wright Jr, Willie E | Deputy Asst Sec (Workforce Management)
Zarate, Juan C | DAS, Executive Ofc of Terr Fin & Fin C
Zerzan, Gregory P | Dep. Ast Sec for (Fin Inst & GSE Pol)

[FR Doc. 04-18223 Filed 8-9-04; 8:45 am]

BILLING CODE 4811-20-M